DEPARTMENT OF THE INTERIOR

National Park Service

[NPS-WASO-NAGPRA-15182; PPWOCRADN0-PCU00RP14.R50000]

Notice of Inventory Completion: University of Massachusetts Amherst, Department of Anthropology, Amherst, MA

AGENCY: National Park Service, Interior.

ACTION: Notice.

SUMMARY: The University of Massachusetts Amherst, Department of Anthropology, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the University of Massachusetts Amherst, Department of Anthropology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of Massachusetts Amherst, Department of Anthropology, at the address in this notice by April 30, 2014.

ADDRESSES: Rae Gould, Repatriation Coordinator, University of Massachusetts Amherst, Department of Anthropology, 215 Machmer Hall, 240 Hicks Way, Amherst, MA 01003, telephone (413) 545-2702, email rgould@anthro.umass.edu.

SUPPLEMENTARY INFORMATION: Notice is here given in accordance with the Native American Graves Protection and Repatriation Act (NAGPRA), 25 U.S.C. 3003, of the completion of an inventory of human remains and associated funerary objects under the control of the University of Massachusetts Amherst, Department of Anthropology. The human remains and associated funerary objects were removed from the Miacomet Burial Ground, Nantucket, MA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Massachusetts Amherst, Department of Anthropology professional staff in consultation with representatives of the Wampanoag Repatriation Confederation, representing the Mashpee Wampanoag Tribe (previously listed as the Mashpee Wampanoag Indian Council, Inc.); Wampanoag Tribe of Gay Head (Aquinnah); and the Assonet Band of the Wampanoag Nation, a non-Federally recognized Indian group.

History and Description of the Remains

In 1988, University of Massachusetts (UMass) Archaeological Services assisted with the delineation and partial excavation of the Miacomet Burial Ground, Nantucket, MA, following the disturbance of burials at the site as part of a development project for the Nantucket Housing Authority. UMass Archaeological Services was employed to determine the boundaries of the burial ground and conducted subsurface testing and excavation, including the excavation of two burials. Although excavation of the burials left two individuals in situ, some items were recovered from the site, including soil samples from the burials containing human remains representing, at minimum, one individual, and have remained at UMass Archaeological Services in Amherst, MA. No known individuals were identified. A total of 22 associated funerary objects are present: 1 lot quahog shell, 1 lot oyster shell, 1 lot animal bone pieces, 1 lot historic glass pieces, 1 lot of ceramic shards, 1 lot of metal pieces, 1 lot of coffin nails and coffin wood pieces, 3 brass pin pieces, 2 brass buttons, 3 ceramic pipe pieces, 1 piece brick, 1 lot lithic flakes, 3 projectile points, 1 projectile point tip, and 1 partial groundstone artifact.

The Miacomet Burial Ground is documented to have existed in the early Contact period, and used extensively in the early 17th-century in particular. Ethnohistoric documents—including European colonial maps, written documents and missionary accounts—and Wampanoag oral history, indicate that the Wampanoag people and their allies, through marriage and war pacts (e.g. 1675 King Phillip's War), were occupants of Massachusetts and Rhode Island at the time of contact and European colonization. Wampanoag oral history also indicates a maintained, long-term occupation of the region. The present-day Indian tribes and group most closely affiliated with members of the Wampanoag Nation are the Mashpee Wampanoag Tribe (previously listed as the Mashpee Wampanoag Indian Council, Inc.); Wampanoag Tribe of Gay Head (Aquinnah); and the Assonet Band of the Wampanoag Nation, a non-Federally recognized Indian group.

Determinations Made by the University of Massachusetts Amherst, Department of Anthropology

Officials of the University of Massachusetts Amherst, Department of Anthropology, have determined that:

• Pursuant to 25 U.S.C. 3001(9), the human remains described in this notice represent the physical remains of a minimum of one individual of Native American ancestry.

• Pursuant to 25 U.S.C. 3001(3)(A), the 22 objects described in this notice are reasonably believed to have been placed with or near individual human remains at the time of death or later as part of the death rite or ceremony.

• Pursuant to 25 U.S.C. 3001(2), there is a relationship of shared group identity that can be reasonably traced between the Native American human remains and associated funerary objects to the Wampanoag Repatriation Confederation, representing the Mashpee Wampanoag Tribe (previously listed as the Mashpee Wampanoag Indian Council, Inc.); Wampanoag Tribe of Gay Head (Aquinnah); and the Assonet Band of the Wampanoag Nation, a non-Federally recognized Indian group.

Additional Requestors and Disposition

Lineal descendants or representatives of any Indian tribe or Native Hawaiian organization not identified in this notice that wish to request transfer of control of these human remains and associated funerary objects should submit a written request with information in support of the request to Rae Gould, Repatriation Coordinator, University of Massachusetts Amherst, Department of Anthropology, 215 Machmer Hall, 240 Hicks Way, Amherst, MA 01003, telephone (413) 545-2702, email rgould@anthro.umass.edu, by April 30, 2014. After that date, if no additional requestors have come forward, transfer of control of the human remains and associated funerary objects to the Wampanoag Repatriation Confederation, representing the Mashpee Wampanoag Tribe (previously listed as the Mashpee Wampanoag Indian Council, Inc.); Wampanoag Tribe of Gay Head (Aquinnah); and the Assonet Band of the Wampanoag Nation, a non-Federally recognized Indian group, may proceed.

The University of Massachusetts Amherst, Department of Anthropology is responsible for notifying the Mashpee Wampanoag Tribe (previously listed as the Mashpee Wampanoag Indian Council, Inc.); Wampanoag Tribe of Gay Head (Aquinnah); and the Assonet Band of the Wampanoag Nation, a non-Federally recognized Indian group that this notice has been published.

Dated: March 4, 2014.
Sherry Hutt,
Manager, National NAGPRA Program.

[FR Doc. 2014-07145 Filed 3-28-14; 8:45 am]

BILLING CODE 4312-50-P